DEPARTMENT OF THE TREASURY

Office of Foreign Assets Control

Sanctions Actions Pursuant to Executive Order 13667

AGENCY: Office of Foreign Assets Control, Treasury.

ACTION: Notice.

SUMMARY: The Treasury Department's Office of Foreign Assets Control (OFAC) is publishing the names of one individual and one entity whose property and interests in property are blocked pursuant to Executive Order (E.O.) 13667 and whose names have been added to OFAC's list of Specially Designated Nationals and Blocked Persons (SDN List).

DATES: OFAC's actions described in this notice were effective March 8, 2016.

FOR FURTHER INFORMATION CONTACT: The Department of the Treasury's Office of Foreign Assets Control: Assistant Director for Licensing, tel.: 202-622-2480, Assistant Director for Regulatory Affairs, tel.: 202-622-4855, Assistant Director for Sanctions Compliance & Evaluation, tel.: 202-622-2490; or the Department of the Treasury's Office of the Chief Counsel (Foreign Assets Control), Office of the General Counsel, tel.: 202-622-2410.

SUPPLEMENTARY INFORMATION:

Electronic and Facsimile Availability

The SDN List and additional information concerning OFAC sanctions programs are available from OFAC's Web site (www.treasury.gov/ofac). Certain general information pertaining to OFAC's sanctions programs is also available via facsimile through a 24-hour fax-on-demand service, tel.: 202/622-0077.

Notice of OFAC Actions

On March 8, 2016, OFAC blocked the property and interests in property of the following individual and entity pursuant to E.O. 13667, “Blocking Property of Certain Persons Contributing to the Conflict in the Central African Republic”:

Individual

KONY, Joseph, Haute-Kotto, Central African Republic; Vakaga, Central African Republic; Kafia Kingi; Southern Darfur, Sudan; Congo, Democratic Republic of the; DOB 1961; alt. DOB 1963; alt. DOB 1965; alt. DOB 1959; alt. DOB 1960; alt. DOB 18 Sep 1964; POB Odek, Omoro, Gulu, Uganda; alt. POB Palaro Village, Palaro Parish, Omoro County, Gulu District, Uganda; alt. POB Atyak, Uganda; nationality Uganda; Gender Male; Commander of the Lord's Resistance Army (individual) [SDGT] [CAR] (Linked To: LORD'S RESISTANCE ARMY).

Entity

LORD'S RESISTANCE ARMY (a.k.a. LORD'S RESISTANCE MOVEMENT; a.k.a. LORD'S RESISTANCE MOVEMENT/ARMY; a.k.a. “LRA”; a.k.a. “LRM”; a.k.a. “LRM/A”), Vakaga, Central African Republic; Haute-Kotto, Central African Republic; Basse-Kotto, Central African Republic; Haut-Mbomou, Central African Republic; Mbomou, Central African Republic; Haut-Uolo, Congo, Democratic Republic of the; Bas-Uolo, Congo, Democratic Republic of the; Kafia Kingi [CAR].

Dated: March 8, 2016.
John E. Smith,
Acting Director, Office of Foreign Assets Control.

[FR Doc. 2016-05525 Filed 3-10-16; 8:45 am]

BILLING CODE 4810-AL-P